DEPARTMENT OF ENERGY

Federal Energy Regulatory Commission

[Project No. 3516-008]

City of Hart, Michigan; Notice of Availability of Draft Environmental Assessment

November 6, 2002.

In accordance with the National Environmental Policy Act of 1969 and the Federal Energy Regulatory Commission's (Commission) regulations, 18 CFR part 380 (Order No. 486, 52 FR 47897), the Office of Energy Projects has reviewed the application for minor license for the existing Hart Hydroelectric Project located on the South Branch of the Pentwater River in Oceana County, Michigan, and has prepared a Draft Environmental Assessment (DEA) for the project.

The DEA contains the staff's analysis of the potential environmental effects of the project and concludes that licensing the project, with appropriate environmental protective measures, would not constitute a major Federal action that would significantly affect the quality of the human environment

A copy of the DEA is available for review at the Commission in the Public Reference Room or may be viewed on the Commission's website at http://www.ferc.gov using the “FERRIS” link. Enter the docket number excluding the last three digits in the docket number field to access the document. For assistance, please contact FERC Online Support at FERCOnlineSupport@ferc.gov or toll free at (866) 208-3676, or for TTY, contact (202) 502-8659.

Any comments should be filed within 30 days from the date of this notice and should be addressed to Magalie R. Salas, Secretary, Federal Energy Regulatory Commission, 888 First Street, NE., Washington, DC 20426. Please affix Project No. 3516-008 to all comments. Comments may be filed electronically via the Internet in lieu of paper. The Commission strongly encourages electronic filings. See 18 CFR 385.2001(a)(1)(iii) and the instructions on the Commission's web site (http://www.ferc.gov) under the “e-Filing” link.

For further information, contact Steve Kartalia at (202) 502-6131 or by E-mail at stephen.kartalia@ferc.gov.

Magalie R. Salas,
Secretary.

[FR Doc. 02-28772 Filed 11-12-02; 8:45 am]

BILLING CODE 6717-01-P